DEPARTMENT OF COMMERCE

National Oceanic and Atmospheric Administration

RIN 0648-XD858

New England Fishery Management Council; Public Meeting

AGENCY: National Marine Fisheries Service (NMFS), National Oceanic and Atmospheric Administration (NOAA), Commerce.

ACTION: Notice; public meeting.

SUMMARY: The New England Fishery Management Council's (Council) Observer Policy Committee will meet to review scientific information affecting New England fisheries in the exclusive economic zone (EEZ).

DATES: The meeting will be held on Thursday, April 16, 2015 beginning at 9:30 a.m.

ADDRESSES: The meeting will be held at the Four Points by Sheraton (formerly Sheraton Colonial), One Audubon Ave., Wakefield, MA 01880.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda items:

The Observer Committee will review and discuss updated information and analyses for the draft Environmental Assessment for the NMFS-led omnibus amendment to establish provisions for Industry-Funded Monitoring (IFM) across all Council-managed fisheries; consider additional options for industry-funded portside sampling and electronic monitoring (EM) in the Atlantic herring fishery, to be implemented immediately in the IFM amendment (versus a framework adjustment); develop Committee recommendations; review/discuss updated information related to herring/mackerel economic analysis in omnibus IFM amendment; discuss other elements of IFM amendment and develop Committee recommendations; review Draft Action Plan and timeline for completion of IFM amendment. They will address other business as necessary.

Although non-emergency issues not contained in this agenda may be discussed, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Thomas A. Nies (see ADDRESSES) at least 5 days prior to the meeting date.

Authority: 16 U.S.C. 1801 et seq.

Dated: March 26, 2015.
Tracey L. Thompson,
Acting Deputy Director, Office of Sustainable Fisheries, National Marine Fisheries Service.

[FR Doc. 2015-07311 Filed 3-30-15; 8:45 am]

BILLING CODE 3510-22-P